DEPARTMENT OF TRANSPORTATION

Federal Aviation Administration

14 CFR Part 39

[Docket No. 2003-NE-32-AD; Amendment 39-13285; AD 2003-17-10]

RIN 2120-AA64

Airworthiness Directives; McCauley Propeller Systems, Inc. Propeller Hub Models B5JFR36C1101, C5JFR36C1102, B5JFR36C1103, and C5JFR36C1104; Correction

AGENCY: Federal Aviation Administration, DOT.

ACTION: Final rule; correction.

SUMMARY: This document makes a correction to Airworthiness Directive (AD) 2003-17-10. That AD applies to McCauley Propeller Systems, Inc. Propeller Hub Models B5JFR36C1101, C5JFR36C1102, B5JFR36C1103, and C5JFR36C1104 propellers. AD 2003-17-10 was published in the Federal Register on August 21, 2003 (68 FR 50462). Paragraph (o) incorrectly references Table 3 and should reference Table 2. This document corrects that reference. In all other respects, the original document remains the same.

EFFECTIVE DATE: Effective September 3, 2003.

FOR FURTHER INFORMATION CONTACT: Timothy Smyth, Aerospace Engineer, Chicago Aircraft Certification Office, FAA, Small Airplane Directorate, 2300 East Devon Avenue, Room 107, Des Plaines, IL 60018; telephone: (847) 294-7132; fax: (847) 294-7834.

SUPPLEMENTARY INFORMATION: A final rule; request for comments to supersede an existing AD, FR Doc, 03-21519 that applies to McCauley Propeller Systems, Inc. Propeller Hub Models B5JFR36C1101, C5JFR36C1102, B5JFR36C1103, and C5JFR36C1104 propellers, was published in the Federal Register on August 21, 2003 (68 FR 50462). The following correction is needed:

§ 39.13 [Corrected]

On page 50464, in the third column, in the paragraph entitled Material Incorporated by Reference, paragraph (o), in the sixth line, “listed in Table 3 of this AD” is corrected to read “listed in Table 2 of this AD”.

Issued in Burlington, MA, on August 27, 2003.
Francis A. Favara,
Assistant Manager, Engine and Propeller Directorate, Aircraft Certification Service.

[FR Doc. 03-22381 Filed 9-2-03; 8:45 am]

BILLING CODE 4910-13-P